AGENCY FOR INTERNATIONAL DEVELOPMENT

Notice of Meeting

AGENCY: Agency for International Development.

ACTION: Notice.

Pursuant to the Federal Advisory Committee Act, notice is hereby given of a meeting of the Advisory Committee on Voluntary Foreign Aid (ACVFA).

Date: February 25, 2003 (9 a.m. to 5 p.m.).

Location: National Press Club, 529 14th Street, NW., 13th Floor, Washington, DC.

This meeting will feature discussion on the changing face of U.S. foreign assistance delivery. Participants will have an opportunity to ask questions of the speakers and participate in the discussion.

The meeting is free and open to the public. Persons wishing to attend the meeting can visit http://www.ACVFA.net to register online, or fax or e-mail their name to Ashley Mattison, (202) 347-9211, pvcsupport@datexinc.com.

Dated: January 12, 2004.
Adele Liskov,
Acting Executive Director, Advisory Committee on Voluntary Foreign Aid (ACVFA).

[FR Doc. 04-1288 Filed 1-21-04; 8:45 am]

BILLING CODE 6116-01-P